DEPARTMENT OF JUSTICE

Immigration and Naturalization Service

[AG Order No. 2658-2003]

Registration of Certain Nonimmigrant Aliens From Designated Countries

AGENCY: Immigration and Naturalization Service, Justice.

ACTION: Notice.

SUMMARY: This Notice amends two previous Notices that require certain nonimmigrant aliens to appear before, register with, and provide requested information to the Immigration and Naturalization Service. This Notice changes the dates on which the registration periods close, thus permitting the affected nonimmigrant aliens more time to register. The Notice permits nonimmigrant aliens of Pakistan or Saudi Arabia who are required to register under the Notice published on December 18, 2002, at 67 FR 77642, to timely register on or before March 21, 2003. The Notice permits nonimmigrant aliens of Bangladesh, Egypt, Indonesia, Jordan, or Kuwait who are required to register under the Notice published on January 16, 2003, at 68 FR 2363, to timely register on or before April 25, 2003. This Notice makes no other changes to the registration requirements.

EFFECTIVE DATES: This Notice is effective on February 19, 2003.

FOR FURTHER INFORMATION CONTACT: Dan Brown, Office of the General Counsel, Immigration and Naturalization Service, 425 I Street, NW., Room 6100, Washington, DC 20536, telephone: (202) 514-2895.

SUPPLEMENTARY INFORMATION: Section 265(b) of the Immigration and Nationality Act (“Act”), as amended, 8 U.S.C. 1305(b), provides that

[t]he Attorney General may in his discretion, upon ten days notice, require the natives of any one or more foreign states, or any class or group thereof, who are within the United States and who are required to be registered under this subchapter, to notify the Attorney General of their current addresses and furnish such additional information as the Attorney General may require.

Additionally, section 263(a) of the Act, 8 U.S.C. 1303(a), provides that the Attorney General may “prescribe special regulations and forms for the registration and fingerprinting of * * * aliens of any other class not lawfully admitted to the United States for permanent residence.”

The Attorney General has previously exercised his authority under these and other provisions of the Act to establish special registration procedures under 8 CFR 264.1(f). See 67 FR 52584 (Aug. 12, 2002). These requirements are known as the National Security Entry—Exit Registration System (“NSEERS”). In accordance with the authority set forth in 8 CFR 264.1(f)(4), the Attorney General has determined that certain nonimmigrant aliens specified in previously published Notices shall be registered and required to provide specific information. See 67 FR 67766 (Nov. 6, 2002); 67 FR 70526 (Nov. 22, 2002); 67 FR 77642 (Dec. 18, 2002); 68 FR 2363 (Jan. 16, 2003). The Attorney General has the sole discretion to make this determination.

Under this Notice, the Attorney General grants the nonimmigrant aliens required to register under two of these Notices additional time to register. This Notice has the effect of changing the closing date for registration under the Notice published on December 18, 2002, at 67 FR 77642, from February 21, 2003, to March 21, 2003. Thus, covered nonimmigrant aliens from Pakistan or Saudi Arabia are being permitted an additional month to register. This Notice also has the effect of changing the closing date for registration under the Notice published on January 16, 2003, at 68 FR 2363, from March 28, 2003, to April 25, 2003. Thus, covered nonimmigrant aliens from Bangladesh, Egypt, Indonesia, Jordan, or Kuwait are being given almost an additional month to register. The Attorney General has determined that such additional time to register is in the best interests of the United States and has extended this time to register solely as a matter of discretion.

A willful failure to comply with the notices setting forth the special registration requirements constitutes a failure to maintain nonimmigrant status under section 237(a)(1)(C)(i) of the Act, 8 U.S.C. 1227(a)(1)(C)(i). See 8 CFR 214.1(f). Pursuant to section 237(a)(3)(A) of the Act, 8 U.S.C. 1227(a)(3)(A), an alien who fails to comply with the notices is deportable, unless the alien establishes to the satisfaction of the Attorney General that such failure was reasonably excusable or was not willful. Finally, if an alien subject to the notices fails, without good cause, to comply with the requirement in 8 CFR 264.1(f)(8) that the alien must report to an inspecting officer of the Service when departing the United States, the alien shall thereafter be presumed to be inadmissible under, but not limited to, section 212(a)(3)(A)(ii) of the Act, 8 U.S.C. 1182(a)(3)(A)(ii). See 8 CFR 264.1(f)(8).

Notice of Requirements for Registration of Certain Nonimmigrant Aliens From Designated Countries

Pursuant to sections 261 through 266 of the Immigration and Nationality Act (“Act”), as amended, 8 U.S.C. 1302 through 1306, and particularly sections 263(a) and 265(b) of the Act, 8 U.S.C. 1303(a) and 8 U.S.C. 1305(b), and 8 CFR 264.1(f), I hereby order as follows:

(a) Notwithstanding the terms of the Notice published on December 18, 2002, at 67 FR 77642, nonimmigrant aliens included in that Notice may timely register on or before March 21, 2003.

(b) Notwithstanding the terms of the Notice published on January 16, 2003, at 68 FR 2363, nonimmigrant aliens included in that Notice may timely register on or before April 25, 2003.

Dated: February 13, 2003.
John Ashcroft,
Attorney General.

[FR Doc. 03-3960 Filed 2-18-03; 8:45 am]

BILLING CODE 4410-10-P